INTERNATIONAL TRADE COMMISSION

Public Availability of the U.S. International Trade Commission's FY 2010 Service Contract Inventory; Public Availability of FY 2010 Service Contract Inventory

AGENCY: U.S. International Trade Commission.

ACTION: Notice.

SUMMARY: In accordance with Section 743 of Division C of the Consolidated Appropriations Act of 2010 (Pub. L. 111-117), the U.S. International Trade Commission is publishing this notice to advise the public of the availability of the FY 2010 Service Contract Inventory. This inventory provides information on service contract actions over $25,000 that were made in FY 2010. The information is organized by function to show how contracted resources are distributed throughout the agency. The inventory has been developed in accordance with guidance issued on November 5, 2010 by the Office of Management and Budget's Office of Federal Procurement Policy (OFPP). OFPP's guidance is available at http://www.whitehouse.gov/sites/default/files/omb/procurement/memo/service-contract-inventories-guidance-11052010.pdf. The U.S. International Trade Commission has posted its inventory on its homepage at the following link: http://www.usitc.gov/procurement/index.htm.

FOR FURTHER INFORMATION CONTACT: Questions regarding the service contract inventory should be directed to Stephen A. McLaughlin in the Office of Administration at 202-205-3131 or Stephen.McLaughlin@usitc.gov.

By order to the Commission.
Dated: June 6, 2011.
James R. Holbein,
Secretary to the Commission.

[FR Doc. 2011-14302 Filed 6-8-11; 8:45 am]

BILLING CODE 7020-02-P